FEDERAL TRADE COMMISSION

16 CFR Part 255

Guides Concerning the Use of Endorsements and Testimonials in Advertising; Extension of Comment Period

AGENCY: Federal Trade Commission.

ACTION: Extension of deadline for submission of public comments.

SUMMARY: The Federal Trade Commission (“FTC” or “Commission”) is extending the deadline for filing comments on its Guides Concerning the Use of Endorsements and Testimonials in Advertising (“the Endorsement Guides”).

DATES: For the proposed rule published on February 21, 2020 (85 FR 10104), comments must be received on or before June 22, 2020.

SUPPLEMENTARY INFORMATION: On February 12, 2020, the Commission announced that it would seek public comments on whether to make changes to the Endorsement Guides. The FTC's Regulatory Review and Request for Public Comment was subsequently published in the Federal Register, with April 21, 2020 established as the deadline for the submission of comments. See 85 FR 10104 (Feb. 21, 2020).

The Commission has received inquiries about extending the comment period deadline in light of the disruption caused by the coronavirus pandemic.

The Commission believes that a two-month extension is appropriate. Accordingly, it has decided to extend the deadline for submission of comments on the Endorsement Guides to Monday, June 22, 2020.

FOR FURTHER INFORMATION CONTACT: Michael Ostheimer (202-326-2699), mostheimer@ftc.gov, Attorney, Division of Advertising Practices, Bureau of Consumer Protection, Federal Trade Commission, Room CC-10603, 600 Pennsylvania Avenue NW, Washington, DC 20580.

By direction of the Commission.
April J. Tabor,
Acting Secretary.

[FR Doc. 2020-07173 Filed 4-7-20; 8:45 am]

BILLING CODE 6750-01-P